DEPARTMENT OF THE INTERIOR

Fish and Wildlife Service

Notice of Availability of an Environmental Assessment/Habitat Conservation Plan and Receipt of Application for an Incidental Take Permit for three karst cave invertebrates from a Residential and Commercial Development on approximately 1,000 acres in Bexar County, Texas

SUMMARY: La Cantera Development Company, Ltd. (Applicant) has applied to the U.S. Fish and Wildlife Service (Service) for an incidental take permit pursuant to Section 10(a) of the Endangered Species Act (Act). The Applicant has been assigned permit number TE-044512-0. The requested permit, which is for a period of 30 years, would authorize the incidental take of Cicurina madla (Madla's Cave spider), Rhadine exilis and Rhadine infernalis (no common names). The proposed take would occur as a result of the construction of commercial developments on 1,000 acres in an area bounded by I-10 to the east, Loop 1604 to the south, Babcock Road to the west, and Camp Bullis Road to the north in the City of San Antonio, Bexar County, Texas.

The Service has prepared the Environmental Assessment/Habitat Conservation Plan (EA/HCP) for the incidental take application. A determination of jeopardy to the species or a Finding of No Significant Impact (FONSI) will not be made before 60 days from the date of publication of this notice. This notice is provided pursuant to Section 10(c) of the Act and National Environmental Policy Act regulations (40 CFR 1506.6).

DATES: August 31, 2001.

ADDRESSES: Persons wishing to review the application may obtain a copy by writing to the Regional Director, U.S. Fish and Wildlife Service, P.O. Box 1306, Albuquerque, New Mexico 87103. Persons wishing to review the EA/HCPs may obtain a copy by contacting Christina Longacre, Ecological Services Field Office, 10711 Burnet Road, Suite 200, Austin, Texas 78758 (512/490-0063). Documents will be available for public inspection by written request, by appointment only, during normal business hours (8:00 am to 4:30 pm), U.S. Fish and Wildlife Service, Austin, Texas. Written data or comments concerning the application and EA/HCP should be submitted to the Field Supervisor, Ecological Field Office, Austin, Texas at the above address. Please refer to permit number TE-044512-0 when submitting comments.

FOR FURTHER INFORMATION CONTACT: Christina Longacre at the above Austin Ecological Service Field Office.

SUPPLEMENTARY INFORMATION: Section 9 of the Act prohibits the “taking” of endangered species such as the Cicurina madla (Madla's Cave spider), Rhadine exilis and Rhadine infernalis (no common names). However, the Service, under limited circumstances, may issue permits to take endangered wildlife species incidental to, and not the purpose of, otherwise lawful activities. Regulations governing permits for endangered species are at 50 CFR 17.22.

Applicant: La Cantera Development Company plans to construct a commercial and residential development on approximately 1,000 acres generally bounded by I-10 to the east, Loop 1604 to the south, Babcock Road to the west, and Camp Bullis Road to the north in the City of San Antonio, Bexar County, Texas. This action will occur on all portions of the property except those designated as necessary to protect on-site karst areas and will impact Caves #1 and #2, which contain the endangered Rhadine exilis and Cicurina madla, and Cave #3, which contains only Cicurina. No take of any other listed endangered species is expected to result from completion of the Proposed Alternative. However, since Rhadine infernalis is known from the general area and it has been adequately mitigated for within the proposed preserves, the Applicant will be covered for this species.

The development will eliminate most of the habitat for these species on site, and will cause deterioration of the cave ecosystem by encouraging fire ants, altering the surface and subsurface moisture and temperature regimes and increasing human impacts. The applicant proposes to compensate for this incidental take of the three listed species by protecting seven karst preserves totaling 181 acres to be protected and managed in perpetuity. The karst preserves include one-acre on-site preserves for La Cantera Caves 1 and 2, and five off-site preserves totaling approximately 179 acres. In addition, undeveloped portions of the property would be monitored and treated for introduced fire ants, use of pesticides and herbicides would be restricted, and use of the premises for businesses that have the potential to contaminate sub-surface karst and/or groundwater (i.e., gas stations and dry cleaners) would be prohibited.

Alternatives to this action were rejected because not developing the subject property with federally listed species present was not economically feasible and alteration of the project design would increase the impacts.

Bryan Arroyo,
Acting Regional Director, Region 2, Albuquerque, New Mexico.

[FR Doc. 01-16493 Filed 6-29-01; 8:45 am]

BILLING CODE 4510-55-P